DEPARTMENT OF THE INTERIOR

Bureau of Land Management

[NM-030-1430-ES; NMNM 118224]

Notice of Realty Action

AGENCY: Bureau of Land Management (BLM), Interior.

ACTION: Notice of realty action.

SUMMARY: The Bureau of Land Management (BLM) has examined and found suitable approximately 80.24 acres of public land in Dona Ana County, New Mexico for classification for lease or subsequent conveyance under the provisions of the Recreation and Public Purposes (R&PP) Act, as amended (44 Stat. 741, as amended; 43 U.S. C. 869 et seq.) and Section 212 of the Federal Land Policy and Management Act (FLPMA of 1976, as amended). Las Cruces Public Schools propose to use the land for a K-5 elementary school and a 6-8 grade middle school and playgrounds.

DATES: Interested parties may submit written comments regarding the proposed lease/conveyance or classification of the lands until February 4, 2008.

ADDRESSES: Send written comments to the District Manager, BLM, Las Cruces District Office, 1800 Marquess Street, Las Cruces, New Mexico 88005.

FOR FURTHER INFORMATION CONTACT: Al Chavez, Realty Specialist at the above address or on (575) 525-4376.

SUPPLEMENTARY INFORMATION: In accordance with Section 7 of the Taylor Grazing Act, as amended, 43 U.S.C. 315f, the following described land has been examined and found suitable for classification for a non-profit, public purpose—specifically a site for a K-5 elementary school and a 6-8 grade middle school and playgrounds owned, operated and organized by Las Cruces Public Schools. The land is hereby classified accordingly. The parcel of public land, located north of Las Cruces, is described as follows:

New Mexico Principal Meridian

T. 22 S., R. 2 E., Section 10, NE1/4SE1/4, SW1/4SW1/4

The area described contains 80.24 acres, more or less, in Dona Ana County.

Las Cruces Public Schools propose to develop the land to construct an elementary school and middle school and playgrounds for the purpose of meeting educational needs in a rapidly growing community. The site would be leased for a period of 5 years with the option to purchase after the sites are developed according to the Las Cruces District's 5-Year Master Plan. Conveying title to the affected public land is consistent with current BLM land use planning. The lease or conveyance, when issued, will be subject to the following terms, conditions, and reservations:

1. Provisions of the R&PP Act and to all applicable regulations of the Secretary of the Interior.

2. A right-of-way for ditches and canals constructed by the authority of the United States, Act of August 30, 1890 (43 U.S.C. 945).

3. All valid existing rights documented on the official public land records at the time of lease/patent issuance.

4. All minerals shall be reserved to the United States, together with the right to prospect for, mine, and remove the minerals.

5. Any other reservations that the authorized officer determines appropriate to ensure public access and proper management of Federal land and interests therein.

Pursuant to the requirements established by section 120(h) of the Comprehensive Environmental Response, Compensation and Liability Act (42 U.S.C. 9620 (h)) CERCLA), as amended by the Superfund Amendments and Reauthorization Act of 1988 (100 Stat. 1670), notice is hereby given that the above-described land has been examined and no evidence was found to indicate that any hazardous substances had been stored for one year or more, nor had any hazardous substances been disposed of or released on the subject property. Detailed information concerning this project, including, but not limited to documentation relating to compliance with applicable environmental and cultural resource laws, is available for review at the address above.

On December 19, 2007, the land described will be segregated from all other forms of appropriation under the public land laws, including the general mining laws, except for lease or conveyance under the R&PP Act and leasing under the mineral leasing laws.

Classification Comments: Interested parties may submit comments involving the suitability of the land for the K-5 elementary school and the 6-8 grade middle school. Comments on the classification are restricted to whether the land is physically suited for the proposal, where the use will maximize the future use or uses of the land, whether the use is consistent with local planning and zoning, or if the use is consistent with State and Federal programs.

Additional Comments: Interested parties may submit comments regarding the specific use proposed in the application and plan of development, whether the BLM followed proper administrative procedures in reaching the decision, or any other factor not directly related to the suitability of the land for school sites. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective on February 19, 2008.

Dated: December 13, 2007.
E. Dwight Fielder,
Acting District Manager.

[FR Doc. E7-24577 Filed 12-18-07; 8:45 am]

BILLING CODE 4310-VC-P